DEPARTMENT OF TRANSPORTATION

Federal Aviation Administration

14 CFR Part 91

[Docket No. FAA-2011-0246; Amendment No. 91-321A; SFAR No. 112]

RIN 2120-AK42

Prohibition Against Certain Flights Within the Tripoli Flight Information Region (FIR); Extension of Expiration Date; Correction

AGENCY: Federal Aviation Administration (FAA), DOT.

ACTION: Final rule; Extension of expiration date; Correction.

SUMMARY: The FAA is correcting a final rule published on March 21, 2014. In that final rule, the FAA amended its regulations to extend the prohibition against certain flights within the Tripoli Flight Information Region from March 21, 2014 to March 21, 2015. The FAA inadvertently cited an incorrect RIN number. This document corrects that error and also corrects an inadvertent amendment.

DATES: This correction is effective April 8, 2014.

FOR FURTHER INFORMATION CONTACT: Keira Jones, Office of Rulemaking, ARM-101, Federal Aviation Administration, 800 Independence Avenue SW., Washington, DC 20591. Telephone: 202-267-4025.

SUPPLEMENTARY INFORMATION:

Background

On March 21, 2014 (79 FR 15679), the FAA issued “Prohibition Against Certain Flights Within the Tripoli Flight Information Region (FIR); Extension of Expiration Date” (79 FR 15679). In that final rule, which became effective March 21, 2014, the FAA extended the expiration date from March 21, 2014 to March 21, 2015.

The FAA inadvertently listed the incorrect RIN number (2120-AJ93). The correct RIN number is 2120-AK42. In addition, the Office of the Federal Register inadvertently amended § 91.1603 by removing paragraph (e) effective March 20, 2015. Unless the FAA takes further action, § 91.1603 will expire effective March 20, 2015.

Corrections

In the final rule, FR Doc. 2014-06199, published on March 21, 2014, at 79 FR 15679, make the following corrections:

1. On page 15679, in the first column heading, revise “RIN 2120-AJ93” to read “RIN 2120-AK42”.

2. On page 15679, in the third column under the DATES heading, remove the sentence “Amendment 3 to § 91.1603 is effective March 20, 2015.”

§ 91.1603 [Amended]

3. On page 15680, in the third column, beginning at line 19 from the bottom, remove Amendment 3.

Issued under authority provided by 49 U.S.C. 106(f), 44701(a), and 44703 in Washington, DC.

Lirio Liu,
Director, Office of Rulemaking.

[FR Doc. 2014-07509 Filed 4-7-14; 8:45 am]

BILLING CODE 4910-13-P